DEPARTMENT OF COMMERCE

National Oceanic and Atmospheric Administration

[I.D. 080701C]

Proposed Information Collection; Comment Request; Survey of Intent and Capacity to Harvest and Process Fish and Shellfish (Northwest Region)

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 9, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to William L. Robinson, NMFS, 7600 Sand Point Way NE, Seattle, WA 98115 (phone 206-526-6140).

SUPPLEMENTARY INFORMATION:

I. Abstract

Telephone interviews have been used by NMFS to determine the amounts and species of fish that would not be used by domestic processors and could be made available to foreign and joint venture operations. Pacific whiting, the species most recently utilized by to foreign and joint venture operations, became fully utilized by domestic processors in 1991. However, minor opportunities for joint venture processing of shortbelly rockfish and jack mackerel continued to exist. In December 2000, the West Coast groundfish resource was declared to be fully utilized by domestic fisheries. The supporting groundfish regulations at 50 CFR 660.303 (a) were revised to reflect this change.

Telephone interviews continue to be necessary to determine the intent and capacity of the various sectors of the domestic fleet to harvest and process Pacific whiting. Each year the Pacific whiting optimum yield is divided between the treaty Indian tribes on the coast of Washington State and the three sectors of the non-tribal commercial fisheries (motherships, catcher/processors, and shore-base processor). If it is determined that a sector will be unable to use all of their allocation before the end of the fishing year, NMFS may reapportion whiting to the other sectors to ensure full utilization of the resource. Therefore, information collected from the groundfish industry in telephone interviews continues to be valuable and important in groundfish management.

II. Method of Collection

Telephone interview.

III. Data

OMB Number: 0648-0243.

Form Number: None.

Type of Review: Regular submission.

Affected Public: Business or other for-profit organizations (owners or operators of vessels that catch or process fish in ocean waters 0-200 nautical miles offshore Washington, Oregon, and California).

Estimated Number of Respondents: 60.

Estimated Time Per Response: 5 minutes.

Estimated Total Annual Burden Hours: 5 hours.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 3, 2001.
Gwellnar Banks,
Management Analyst, Office of the Chief Information Officer.

[FR Doc. 01-20116 Filed 8-9-01; 8:45 am]

BILLING CODE 3510-22-S